DEPARTMENT OF THE INTERIOR

Bureau of Land Management

[ES-960-1910-BJ-5043] ES-051993, Group No. 1, Rhode Island

Eastern States: Filing of Plat of Survey; Stayed

AGENCY: Bureau of Land Management, Interior.

ACTION: Notice of Filing of Plat of Survey; Stayed.

On Tuesday, September 30, 2003 there was published in the Federal Register, Volume 68, Number 189, on page 56312 a notice entitled “ Filing of Plat of Survey; Rhode Island.” In said notice was a plat depicting the survey of the Niles Land, designated Tract No. 8, a portion of the lands held in trust for the Narragansett Indian Tribe in Washington County, Rhode Island, accepted September 23, 2003.

The official filing of the plat is hereby stayed, pending consideration of all protests.

Dated: October 29, 2003.
Stephen D. Douglas,
Chief Cadastral Surveyor.

[FR Doc. 03-27667 Filed 11-3-03; 8:45 am]

BILLING CODE 4310-GJ-P